DEPARTMENT OF TRANSPORTATION

Federal Transit Administration

Draft Environmental Impact Statement for the Monmouth-Ocean-Middlesex Rail; Monmouth, Ocean, and Middlesex Counties, NJ

AGENCY: Federal Transit Administration (FTA).

ACTION: Notice of intent to prepare a Draft Environmental Impact Statement (DEIS).

SUMMARY: The Federal Transit Administration (FTA) is issuing this notice to advise agencies and the public that, in accordance with the National Environmental Policy Act, FTA and the NJ TRANSIT Corporation will prepare a Draft Environmental Impact Statement (DEIS) to evaluate and document the effects of potential rail service alternatives within a three county study area bounded by the Northeast Corridor, the North Jersey Coast Line and the southern Ocean County border, located within Monmouth, Ocean, and Middlesex Counties, New Jersey.

The purpose of the Monmouth-Ocean-Middlesex Rail Project DEIS is to examine the potential benefits, costs, and social, economic, and environmental impacts of feasible alternatives for improving mobility in the Monmouth-Ocean-Middlesex region. The DEIS will identify a preferred alternative that will improve mobility within that region. The DEIS will evaluate a Baseline Alternative and three Commuter Rail Alternatives of differing alignment. The Monmouth Junction Commuter Rail Alternative would use an existing rail corridor that runs from Monmouth Junction to Lakehurst along the Jamesburg Branch, the Freehold Secondary, and the Southern Secondary (Southern Branch) to provide diesel commuter rail service to communities in all three counties. The Red Bank Commuter Rail Alternative would also use an existing rail corridor—continuously from Red Bank to Lakehurst along the Southern Secondary (Southern Branch). The Matawan Commuter Rail Alternative would use the abandoned Freehold Branch, Freehold Secondary, and the Southern Secondary to provide diesel commuter rail service from Matawan to Lakehurst. All three alternatives would require improvements to the existing track and require the construction of some new transportation infrastructure, including tracks, stations and yards. The Commuter Rail Alternatives under consideration were identified and preliminarily assessed as part of the MOM Draft Major Investment Study (MIS) Report (February 1996), along with a recommended Enhanced Bus service.

DATES: Comment Due Date: Written comments on the scope of the DEIS should be sent to NJ TRANSIT by January 31, 2003. See ADDRESSES below.

Scoping meeting: Public scoping meetings for the Monmouth-Ocean-Middlesex Rail Project DEIS will be held on:

Middlesex County, Tuesday, December 3, 2002, 1:30 pm to 9:30 pm, Holiday Inn—Monroe Township, 390 Forsgate Drive, Jamesburg, New Jersey 08831

Ocean County, Wednesday, December 4, 2002, 1:30 pm to 9:30 pm, Ramada Inn of Toms River, 2373 Route 9, Toms River, New Jersey 08755

Monmouth County, Monday, December 9, 2002, 1:30 pm to 9:30 pm, Freehold Gardens, 50 Gibbon Place, Freehold, New Jersey 07728

Registration to speak will begin at 1:30 pm and will remain open until 9 pm.

People with special needs should contact James Schwarzwalder at NJ TRANSIT at the address below or call the study toll-free information line at 1-866-MOM-DEIS. The buildings are accessible to people with disabilities. A sign language interpreter will be made available for the hearing impaired by calling the study toll-free information line at 1-866-MOM-DEIS.

Scoping material will be available at the meetings and may also be obtained in advance of the meetings by contacting James Schwarzwalder at the address below or by calling the study toll-free information line above. Oral and written comments may be given at the scoping meetings; a stenographer will record all comments.

ADDRESSES: Written comments on the project scope should be sent to James Schwarzwalder, Project Manager, NJ TRANSIT, One Penn Plaza East, Newark, NJ 07105-2246 or via e-mail to MOMcomments@njtransit.com. The scoping meetings will be held at the locations identified above.

FOR FURTHER INFORMATION CONTACT: If you wish to be placed on the mailing list to receive further information as the study develops, contact James Schwarzwalder at the above address or call the study toll-free information line at 1-866-MOM-DEIS. For further information you may also contact: Ms. Carmen Orta, AICP, Community Planner, Office of Planning and Program Development, Federal Transit Administration, Region II, One Bowling Green, Room 429, New York, 10004-1415; phone: 212-668-2170, fax: 212-668-2136.

SUPPLEMENTARY INFORMATION:

I. Scoping

The FTA and NJ TRANSIT invite all interested individuals and organizations, and federal, state, and local agencies to provide comments on the scope of the study. During the scoping process, comments should focus on identifying specific social, economic, or environmental issues to be evaluated and suggesting alternatives, which may be less costly or have less environmental impacts, while achieving the similar transportation objectives. Comments should focus on the issues and alternatives for analysis and not on a preference for a particular alternative. Scoping materials will be available at the meetings or in advance of the meetings by contacting James Schwarzwalder at NJ TRANSIT, as indicated above.

NJ TRANSIT is currently planning a major network expansion project that has relevance to the MOM DEIS. Access to the Region's Core Study (ARC) is a joint study being undertaken by NJ TRANSIT, the Port Authority of New York and New Jersey, and the Metropolitan Transportation Authority of New York. The ARC study is evaluating options for improved access to Midtown Manhattan from points east and west, with both near- and lone-term alternatives. Near-term alternatives focus on expanding the capacity of Penn Station, while the proposed long-term alternative would create a new trans-Hudson tunnel to Penn Station New York and potentially a new Midtown Manhattan rail tunnel connecting Penn Station and Grand Central Terminal. ARC will provide additional capacity to New York City, thereby potentially changing the effects of integrating MOM service into existing New Jersey Transit commuter rail services. The MOM DEIS will therefore incorporate these elements of ARC as needed.

Following the public scoping process, public outreach activities will include meetings with a Community Liaison Committee (CLC) established for the study and comprised of community leaders; public meetings and hearings; distribution of study newsletter(s); a MOM Study web site; and use of other outreach mechanisms. Every effort will be made to ensure that the widest possible range of public participants have the opportunity to attend general public meetings (e.g., scoping meetings and public hearing(s)) held by NJ TRANSIT to solicit input on the Monmouth-Ocean-Middlesex Rail Project DEIS. Attendance will be sought through mailings, notices, advertisements, and press releases.

II. Description of Primary Study Area and Transportation Needs

The primary study area is located in Monmouth, Ocean, and Middlesex Counties in New Jersey, east of the Northeast Corridor, and west of the North Jersey Coast Line. It is located approximately 22 to 50 miles south of Newark, NJ. The municipalities within the primary study area are listed below.

Monmouth County

Aberdeen

Colts Neck

Eatontown

Englishtown

Farmingdale

Freehold Borough

Freehold Township

Howell

Manalapan

Marlboro

Matawan

Red Bank

Shrewsbury Borough

Shrewsbury Township

Tinton Falls

Wall

Ocean County

Lakewood

Lakehurst

Manchester

Dover

Jackson

Middlesex County

Jamesburg

Monroe

South Brunswick

The purpose of the MOM DEIS is to examine in further detail the most promising solutions for addressing mobility issues in Monmouth, Ocean, and Middlesex Counties in New Jersey that were identified through the MIS process. The focus of the DEIS will be to identify a preferred alternative to improve mobility in the region while being sensitive to the economic and environmental considerations on a local and regional basis.

The following existing and forecasted reasons dictate the need for a transportation investment in the Monmouth-Ocean-Middlesex region:

• Growth and development in the region continue at high rates;

• Increased travel is causing congestion and stretching transit capability;

• Delay affects all transit users, but commutes by bus or rail from the southern part of the Study Area generally take at least two hours from door to door;

• Air quality is a serious problem;

• Most municipalities in the study area do not have direct access to public transit in their towns.

• Residents in these municipalities lack rail service and any nearly bus service is often inconvenient and limited.

III. Alternatives

The alternatives proposed for evaluation include: (1) The Baseline Alternative, which includes the current transportation network plus all ongoing, programmed, and committed projects, such as the Secaucus Transfer Station and the Hudson-Bergen Light Rail Transit (HBLRT) system; (2) the Monmouth Junction Commuter Rail Alternative, which would use an existing 40.1-mile rail corridor that runs from Monmouth Junction to Lakehurst, through Middlesex, Monmouth, and Ocean Counties. It is comprised of three distinct railroad segments: the Jamesburg Branch, the Freehold Secondary, and the Southern Secondary (Southern Branch). Trains on the Monmouth Junction Commuter Rail Line would also operate on the Northeast Corridor between Monmouth Junction and Newark. The system would provide diesel commuter service to communities in all three counties. The line would begin at Monmouth Junction (South Brunswick) and would continue southeast through Jamesburg, Englishtown, Manalapan; Freehold Borough, Freehold Township, Howell, and Farmingdale. It would proceed southward from Farmingdale to Lakehurst passing through Howell, Lakewood, Jackson, Dover, and Manchester; (3) the Red Bank Commuter Rail Alternative uses the 27.65-mile long Southern Secondary, which runs continuously from Red Bank to Lakehurst. The line would be accessed from a direct connection with NJ TRANSIT's North Jersey Coast Line (NJCL) in Red Bank. The railroad is owned by the NJ TRANSIT and is operated as a freight railroad by Conrail Shared Assets Corporation. This commuter rail alternative would establish diesel commuter rail service from Red Bank junction through Shrewsburg, Eatontown, Tinton Falls, Howell, Farmingdale, Lakewood, Jackson, Dover, Manchester, and Lakehurst; and (4) the Matawan Commuter Rail Alternative would use an approximately 35.8-mile rail corridor that runs from Matawan to Lakehurst. This alternative is comprised of three distinct railroad segments: the Freehold Branch (currently abandoned), the Freehold Secondary, and the Southern Secondary (Southern Branch). This alternative would provide diesel commuter rail service to communities in Monmouth and Ocean Counties. The line would begin at Matawan, where the Freehold Branch would connect to the North Jersey Coast Line (NJCL). It would proceed south from Matawan, Marlboro, Manalapan, Freehold Borough, and Freehold Township. It would then continue to proceed southward from Farmingdale to Lakehurst, passing through Howell, Lakewood, Jackson, Dover, Manchester, and South Lakewood. Trains would operate on the North Jersey Coast Line (NJCL) between Matawana and Rahway and on the Northeast Corridor (NEC) from Rahway to Newark. Each of the commuter rail alternatives will involve improvements to existing tracks and construction of new transportation infrastructure, such as tracks, station structures, and yards.

IV. Probable Effects

The FTA and NJ TRANSIT will evaluate all potential changes to the social, economic, and physical environment, including land acquisition and displacements; land use, zoning and economic development; parklands; community disruption; aesthetics; historic and archaeological resources; traffic and parking; air quality; noise and vibration; water quality; wetlands; ecologically sensitive areas; endangered species; energy requirements and potential for conservation; hazardous waste; environmental justice; safety and security; and cumulative impacts. Key areas of environmental concern would be in the areas of potential new construction (e.g. structures, new stations, new track, etc.) The impacts will be evaluated both for the construction period and for the long-term period of operation of each alternative. Measures to mitigate any significant adverse impacts will be identified.

V. FTA Procedures

The DEIS is being prepared in accordance with the National Environmental Policy Act of 1969 (NEPA), as amended, and implemented by the Council on Environmental Quality (CEQ) regulations (40 CFR Parts 1500-1508), the FTA/Federal Highway Administration's Environmental Impact regulations (23 CFR Part 771), and the FTA/FHWA Statewide Planning/Metropolitan Planning regulations (23 CFR Part 450). This study will also comply with the requirements of the National Historic Preservation Act of 1966, as amended, Section 4(f) of the 1966 U.S. Department of Transportation Act, the 1990 Clean Air Act Amendments, the Executive Order 12898 on Environmental Justice, and other applicable rules, regulations, and guidance documents. A Draft Major Investment Study has been prepared for this project (1996). The DEIS will reference the results of that study, as well as the various supplemental studies conducted subsequent to the Draft (MIS), including an evaluation of the potential social, economic, and environmental impacts of the alternatives. Upon completion, the DEIS will be available for public and agency review and comment. Public hearing(s) will be held within the study area. On the basis of the DEIS and the public and agency comments received, a locally preferred alternative will be selected, to be further detailed in the FEIS.

Dated: October 9, 2002.
Letitia Thompson,
Regional Administrator, TRO-II, Federal Transit Administrator.

[FR Doc. 02-26289 Filed 10-15-02; 8:45 am]

BILLING CODE 4910-57-M